SECURITIES AND EXCHANGE COMMISSION

[Release No. 34-46198; File No. SR-Amex-2002-08]

Self-Regulatory Organizations; Notice of Withdrawal of Proposed Rule Change and Amendment Nos. 1, 2, and 3 Thereto by the American Stock Exchange LLC Relating to Specialist Unit Fees

July 12, 2002.

On February 7, 2002, the American Stock Exchange LLC (“Exchange” or “Amex”) submitted to the Securities and Exchange Commission (“Commission”) a proposed rule change, pursuant to Section 19(b)(1) of the Securities Exchange Act of 1934 (“Act”),¹ and Rule 19b-4 thereunder,² to modify its Member Fee Schedule to pass through to Amex specialist units any fee paid by the Exchange to a third party in connection with the listing and trading of a security allocated to such specialist unit. On March 13, 2002, the Amex submitted Amendment No. 1 to the proposed rule change.³ On March 18, 2002, the Amex submitted Amendment No. 2 to the proposed rule change.⁴ The proposed rule change, as amended by Amendment Nos. 1 and 2, was published in the Federal Register on April 17, 2002.⁵ The Commission received one comment on the proposed rule change.⁶ On May 16, 2002, the Amex filed Amendment No. 3 to the proposed rule change.⁷ The proposed rule change, as amended by Amendment No. 3, was published in the Federal Register on May 30, 2002.⁸ On July 12, 2002, the Exchange withdrew the proposed rule change.⁹

¹ 15 U.S.C. 78s(b)(1).

² 17 CFR 240.19b-4.

³ See letter from Geraldine Brindisi, Vice President and Corporate Secretary, Amex, to Nancy J. Sanow, Assistant Director, Division of Market Regulation (“Division”), Commission, dated March 12, 2002.

⁴ See letter from Claire McGrath, Amex, to Nancy J. Sanow, Assistant Director, Division, Commission, dated March 14, 2002.

⁵ See Exchange Act Release No. 45727 (April 10, 2002), 67 FR 18962.

⁶ See letter from Brandon Becker, Wilmer, Cutler & Pickering, to Jonathan G. Katz, Secretary, Commission, dated May 2, 2002.

⁷ See letter from Geraldine Brindisi, Vice President and Corporate Secretary, Amex, to Nancy J. Sanow, Assistant Director, Division, Commission, dated May 16, 2002.

⁸ See Exchange Act Release No. 45972 (May 21, 2002), 67 FR 18962.

⁹ See Letter from, Geraldine Brindisi, Vice President and Corporate Secretary, Associate General Counsel, Amex, to Nancy Sanow, Assistant Director, Division, Commission, dated July 12, 2002.

For the Commission, by the Division of Market Regulation, pursuant to delegated authority.¹⁰
Margaret H. McFarland,
Deputy Secretary.

¹⁰ 17 CFR 200.30-3(a)(12).

[FR Doc. 02-18243 Filed 7-18-02; 8:45 am]

BILLING CODE 8010-01-P